DEPARTMENT OF ENERGY

Federal Energy Regulatory Commission

[Docket No. CP01-152-000]

Portland General Electric Company; Notice of Application

April 19, 2001.

On April 10, 2001, Portland General Electric Company (PGE), 121 SW Salmon Street, 1WTC-1301, Portland, Oregon 97204, filed in Docket No. CP01-152-000 an application, as supplemented on April 18, 2001, pursuant to section 7(c) of the Natural Gas Act (NGA) to construct and operate delivery point facilities from its Kelso-Beaver Pipeline, in Columbia County, Oregon to serve an electric generating plant currently under construction, all as more fully set forth in the application which is on file with the Commission and open to public inspection. The filing may be viewed at http://www.ferc.fed.us/online/rims.htm (call 202-208-2222 for assistance).

PGE proposes to construct and operate a tap, meter facility and appurtenant facilities on its Kelso-Beaver pipeline to permit deliveries to its new 24.9 megawatt, gas-fired generating facility currently under construction. PGE advises that the facilities will permit the delivery of up to 7,000 dt on a peak day and up to 1,750,000 dt annually. PGE indicates that the electric generating facility could be online by the summer of 2001. PGE estimates a construction cost of $80,000, to be financed out of corporate funds.

Questions regarding the details of this proposal should be directed to A.W. Turner, Assistant General Counsel, at (503) 464-8926, or in writing to his attention at the above address.

There are two ways to become involved in the Commission's review of this project. First, any person wishing to obtain legal status by becoming a party to the proceedings for this project should, on or before April 30, 2001, file with the Federal Energy Regulatory Commission, 888 First Street, NW., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Non-party commenters will not receive copies of all documents filed by other parties or issued by the Commission and will not have the right to seek court review of the Commission's final order.

Comments, protests and interventions may be filed electronically via the internet in lieu of paper. See, 18 CFR 385.2001(a)(1)(iii) and the instructions on the Commission's web site at http://www.ferc.fed.us/efi/doorbell.htm.

If the Commission decides to set the application for a formal hearing before an Administrative Law Judge, the Commission will issue another notice describing that process. At the end of the Commission's review process, a final Commission order approving or denying a certificate will be issued.

Linwood A. Watson, Jr.,
Acting Secretary.

[FR Doc. 01-10192 Filed 4-24-01; 8:45 am]

BILLING CODE 6717-01-M